DEPARTMENT OF THE INTERIOR

Bureau of Reclamation

Bostwick Division, Frenchman-Cambridge Division, and Kanaska Division, Almena Unit Pick-Sloan Missouri Basin Program

AGENCY: Bureau of Reclamation, Interior.

ACTION: Notice of availability of draft repayment and long-term water service contracts.

SUMMARY: Pursuant to the Act of July 2, 1956 (Administration of Contracts under Section 9, Reclamation Project Act of 1939), contractors of federally developed irrigation water hold a first right to renew long-term water service contracts and/or to convert water service contracts to repayment contracts. Reclamation has entered into negotiations for contract renewal with irrigation districts in the Republican River basin in Nebraska and Kansas. A draft long-term water service contract has been developed for the Frenchman Valley Irrigation District. Draft repayment contracts have been developed for Bostwick Irrigation District in Nebraska, Kansas Bostwick Irrigation District No. 2, Frenchman-Cambridge Irrigation District, and Almena Irrigation District. The draft contracts are now available for public review and comment.

DATES: A 60-day public review and comment period commences with the publication of this notice. Written comments on the draft contracts should be submitted by July 17, 2000.

ADDRESSES: Written comments from interested parties should be submitted to Kent Heidt, GP-2100, Bureau of Reclamation, Great Plains Regional Office, Post Office Box 36900, Billings, MT 59107-6900 for consideration in the contract renewal process.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

You may request copies of the draft contracts from Jim Beadnell, GP-2100, Bureau of Reclamation, Great Plains Region, P.O. Box 36900, Billings, MT 59107-6900; telephone (406) 247-7731. See Supplementary Information section for additional addresses where the draft contracts are available for public inspection and review.

FOR FURTHER INFORMATION CONTACT: Kent Heidt, GP-2100, Bureau of Reclamation, Great Plains Region, P.O. Box 36900, Billings, MT 59107-6900; telephone (406) 247-7730.

SUPPLEMENTARY INFORMATION:

Draft Contract Public Inspection and Review Locations

Offices

• Bureau of Reclamation, Nebraska-Kansas Area Office, 203 West Second Street, Grand Island NE 68801—telephone (308) 389-4622

• Bureau of Reclamation, Great Plains Regional Office, 316 North 26th Street, Billings MT 59101—telephone (406) 247-7731

• Bostwick Irrigation District in Nebraska, Red Cloud NE

• Kansas Bostwick Irrigation District No. 2, Courtland KS

• Frenchman-Cambridge Irrigation District, Cambridge NE

• Frenchman Valley and H&RW Irrigation District, Culbertson NE

• Almena Irrigation District, Almena KS

Libraries

• Alma Public Library, West Second Street, Alma NE 68920-3378

• Blue Hill Public Library, 317 West Gage Street, Blue Hill NE 68930-2068

• Butler Memorial Library, 621 Pennsylvania, Cambridge NE 69022

• Franklin Public Library, 1502 P Street, Franklin NE 68939-1200

• Hastings Public Library, 517 West Fourth Street, Hastings NE 68901-7560

• Imperial Public Library, 703 Broadway Street, Imperial NE 69033-4017

• Kearney Public Library, 2020 First Avenue, Kearney NE 68847-5306

• McCook Library, 802 Norris Avenue, McCook NE 69001-3143

• Nelson Public Library, 10 West Third Street, Nelson NE 68961-1246

• Red Cloud Public Library, 537 North Webster Street, Red Cloud NE 68970-2421

• Carnegie Public Library, 449 North Kansas Street, Superior NE 68978-1852

• Trenton Village Library, 406 East First Street, Trenton NE 69044

• Wauneta City Library, 319 North Tecumseh, Wauneta NE 69045-2011

• Almena Public Library, 415 Main, Almena KS 67622

• Belleville Public Library, 1327 Nineteenth Street, Belleville KS 66935

• Courtland City Library, 403 Main Street, Courtland KS 66939

• Northwest Kansas Library System, 2 Washington Square, Norton KS 67654

Dated: May 2, 2000.
Maryanne C. Bach,
Regional Director.

[FR Doc. 00-11520 Filed 5-15-00; 8:45 am]

BILLING CODE 4310-94-P